Title 3—

The President

Proclamation 10503 of December 2, 2022

International Day of Persons With Disabilities, 2022

By the President of the United States of America

A Proclamation

On International Day of Persons with Disabilities, we recognize and celebrate the equal rights and dignity of disabled people everywhere and reaffirm our commitment to building a world where people with disabilities are afforded the opportunities, independence, and respect they deserve.

This work has been a priority throughout my career. I was proud to co-sponsor the Americans with Disabilities Act (ADA) in 1990, a definitive endorsement of disability rights and bulwark against discrimination. It was also a powerful example of America's global leadership: in the years since the ADA became law, 180 nations have passed similar laws, delivering justice to millions worldwide.

But we have more work to do. Here in the United States, people with disabilities are three times less likely to be employed, and those who are employed often earn less than their peers for doing the same work. Public spaces, including transit systems and voting locations, are still often inaccessible. And across the globe, disabled people routinely face violence, harassment, exploitation, abuse, and other barriers to their full participation in society.

From the beginning, my Administration has made righting those wrongs a priority. I signed an Executive Order on Diversity, Equity, Inclusion, and Accessibility in the Federal Workforce to advance employment opportunities for communities facing barriers, including Americans with disabilities. Our American Rescue Plan is providing $25 billion to States to make it easier for seniors and people with disabilities to receive care in their own homes, and my Administration delivered vaccines, masks, tests, and therapeutics directly to people in their communities to protect Americans with disabilities and other preexisting health conditions from COVID-19. I also directed my Administration to accelerate progress toward understanding, diagnosing, and treating “long COVID,” a condition that has affected many Americans across the country.

The Bipartisan Infrastructure Law is our Nation's largest-ever investment in accessible transit, and it is also supporting the expansion of high-speed Internet across the country so people can work, study, and stay connected regardless of their ability to leave home. The bipartisan Honoring our PACT Act—the most significant expansion of services for veterans in more than 30 years—helps veterans harmed by toxic exposure access the health care and disability benefits they have earned. The Inflation Reduction Act is capping the cost of lifesaving prescription drugs for seniors and people with disabilities on Medicare and putting more money into Americans' pockets. And my Administration has made hearing aids available to Americans over the counter, lowering average costs by as much as $3,000 per pair.

Meanwhile, the Department of Labor is protecting the rights of workers with disabilities and fighting to end unjust sub-minimum wages. To strengthen these efforts, I signed an Executive Order requiring Federal contractors to pay a minimum wage of $15 per hour, including for employees with disabilities. And the Social Security Administration and Departments of Education, Labor, and Health and Human Services are helping State and local governments, employers, and nonprofits access Federal funds to hire more Americans with disabilities.

We are also lifting up the dignity and rights of disabled people around the world. I reestablished the role of Special Advisor on International Disability Rights at the Department of State to prioritize this issue in our foreign policy. The United States Agency for International Development (USAID) is also advancing disability inclusion as part of its democracy, climate, humanitarian, and peacebuilding activities. For example, USAID is helping communities expand access to wheelchairs, eyeglasses, and hearing aids, which enable people to live productive, independent lives. As co-chair of the Global Action on Disability Network and a participant in the Global Disability Summit, the United States continues to stand for the equal human rights of people with disabilities worldwide.

In honor of the inherent dignity and worth of disabled people around the world and in recognition of the immeasurable contributions people with disabilities have made throughout history and still make today, we must continue to build a more inclusive, equitable, and just world. Let us increase access to health care, expand educational and job opportunities that offer dignity and respect, and break down stigmas that make it difficult for people to see each other's shared humanity. And let us remember that disability is a source of identity and power for over a billion people and that this movement is not only about disability rights but disability pride as well.

NOW, THEREFORE, I, JOSEPH R. BIDEN JR., President of the United States of America, by virtue of the authority vested in me by the Constitution and the laws of the United States, do hereby proclaim December 3, 2022, as International Day of Persons with Disabilities. I call on all Americans to observe this day with appropriate ceremonies, activities, and programs.

IN WITNESS WHEREOF, I have hereunto set my hand this second day of December, in the year of our Lord two thousand twenty-two, and of the Independence of the United States of America the two hundred and forty-seventh.

[FR Doc. 2022-26713

Filed 12-6-22; 8:45 am]

Billing code 3395-F3-P